DEPARTMENT OF COMMERCE

International Trade Administration

[A-549-813]

Canned Pineapple Fruit from Thailand: Final Results and Partial Rescission of Antidumping Duty Administrative Review

AGENCY: Import Administration, International Trade Administration, Department of Commerce.

SUMMARY: On August 4, 2006, the Department of Commerce (Department) published in the Federal Register the preliminary results and partial preliminary rescission of the administrative review of the antidumping duty order on canned pineapple fruit from Thailand. This review covers two manufacturers/exporters: Vita Food Factory (1989) Ltd. (Vita) and Tropical Food Industries Co., Ltd. (TROFCO). The period of review (POR) is July 1, 2004, through June 30, 2005. In these final results, we have made no changes to the weighted-average dumping margins determined for Vita and TROFCO in the preliminary results of this administrative review.

EFFECTIVE DATE: December 7, 2006.

FOR FURTHER INFORMATION CONTACT: Magd Zalok or Howard Smith, AD/CVD Operations, Office 4, Import Administration, International Trade Administration, U.S. Department of Commerce, 14th Street and Constitution Avenue, NW, Washington, DC 20230, telephone: (202) 482-4162 and (202) 482-5193, respectively.

SUPPLEMENTARY INFORMATION:

Background

On August 4, 2006, the Department published in the Federal Register the preliminary results of the administrative review of the antidumping duty order on canned pineapple fruit from Thailand. See Canned Pineapple Fruit from Thailand: Preliminary Results of Antidumping Duty Administrative Review, 71 FR 44256 (August 4, 2006) (Preliminary Results). On August 23, 2006, we received a case brief from Vita in response to the Department's invitation to comment on the Preliminary Results. On September 11, 2006, we received a rebuttal brief from the petitioners. The Department received no comments regarding its preliminary decision to base TROFCO's margin on adverse facts available (AFA).

Scope of the Order

The product covered by the order is canned pineapple fruit, defined as pineapple processed and/or prepared into various product forms, including rings, pieces, chunks, tidbits, and crushed pineapple, that is packed and cooked in metal cans with either pineapple juice or sugar syrup added. Imports of canned pineapple fruit are currently classifiable under subheadings 2008.20.0010 and 2008.20.0090 of the Harmonized Tariff Schedule of the United States (HTSUS). HTSUS 2008.20.0010 covers canned pineapple fruit packed in a sugar-based syrup; HTSUS 2008.20.0090 covers canned pineapple fruit packed without added sugar (i.e., juice-packed). The HTSUS subheadings are provided for convenience and customs purposes. The written description of the merchandise covered by this order is dispositive.

Partial Final Rescission of Review

As stated in the Preliminary Results, the Department concluded that Prachuab Fruit Canning Co., Ltd. (PRAFT) made no shipments of subject merchandise during the POR. Therefore, consistent with the Preliminary Results, and in accordance with 19 CFR § 351.213(d)(3), we are rescinding the instant review with respect to PRAFT. We received no comments on the Department's decision in the Preliminary Results to rescind this review with respect to PRAFT.

Analysis of Comments Received

The one issue raised in Vita's case brief is addressed in the Issues and Decision Memorandum to David M. Spooner, Assistant Secretary for Import Administration, from Stephen J. Claeys, Deputy Assistant Secretary for Import Administration, dated concurrently herewith (Decision Memorandum), which is adopted herein, by reference (that issue is identified in the appendix attached to this notice). The Decision Memorandum is on file in the Central Records Unit, Room B-099 of the Herbert C. Hoover Building, and may be accessed on the Web at http://trade.gov/ia/index.asp, “Federal Register Notices.”

Final Results of Review

We determined that the following weighted-average percentage margins exist for the period July 1, 2004, through June 30, 2005:

Manufacturer/Exporter | Margin (percent)
Vita Food Factory (1989) Ltd. | 16.14
Tropical Food Industries Co., Ltd. | 51.16

Assessment

The Department has determined, and U.S. Customs and Border Protection (CBP) shall assess, antidumping duties on all appropriate entries. In accordance with 19 CFR § 351.212(b)(1), we calculated importer/customer-specific assessment rates for Vita's subject merchandise. Since Vita did not report the entered value for its sales, we calculated per-unit assessment rates for its merchandise by summing, on an importer or customer-specific basis, the dumping margins calculated for all U.S. sales of subject merchandise to the importer or customer and dividing this amount by the total quantity of those sales. To determine whether the per-unit duty assessment rates were de minimis (i.e., less than 0.50 percent ad valorem), in accordance with the requirement set forth in 19 CFR § 351.106(c)(2), we calculated importer/customer- specific ad valorem ratios based on adjusted export prices. Where the importer/customer- specific assessment rate is above de minimis, we will instruct CBP to assess this rate uniformly on all appropriate entries. For TROFCO, the respondent receiving a dumping margin based upon AFA, we will instruct CBP to liquidate entries according to the AFA ad valorem rate. The Department intends to issue assessment instructions to CBP 15 days after the date of publication of the final results of review.

The Department clarified its “automatic assessment” regulation on May 6, 2003. See Antidumping and Countervailing Duty Proceedings: Assessment of Antidumping Duties, 68 FR 23954 (May 6, 2003). This clarification applies to POR entries of subject merchandise produced by companies included in these final results for which the reviewed companies did not know their merchandise was destined for the United States. In such instances, we will instruct CBP to liquidate unreviewed entries at the all-others rate if there is no rate for the intermediate company involved in the transaction. For a full discussion of this clarification, see id.

Cash Deposit Requirements

The following cash deposit requirements will be effective for all shipments of the subject merchandise entered, or withdrawn from warehouse, for consumption on or after the publication date of the final results of this administrative review, as provided by section 751(a)(1) of the Tariff Act of 1930, as amended (Act): (1) the cash deposit rates for the companies examined in the instant review will be the rates listed above (except that if the rate for a particular company is de minimis, i.e., less than 0.50 percent, no cash deposit will be required for that company); (2) for previously investigated or reviewed companies not listed above, the cash deposit rate will continue to be the company-specific rate published for the most recent period; (3) if the exporter is not a firm covered in this review, a prior review, or the less-than-fair-value investigation, but the manufacturer is, the cash deposit rate will be the rate established for the most recent period for the manufacturer of the subject merchandise; and (4) the cash deposit rate for all other manufacturers or exporters will continue to be the “all others” rate of 24.64 percent. These cash deposit rates, when imposed, shall remain in effect until publication of the final results of the next administrative review.

Reimbursement of Duties

This notice also serves as a final reminder to importers of their responsibility under 19 CFR § 351.402(f)(2) to file a certificate regarding the reimbursement of antidumping duties prior to liquidation of the relevant entries during this review period. Failure to comply with this requirement could result in the Secretary's presumption that reimbursement of the antidumping duties occurred and the subsequent assessment of double antidumping duties.

Administrative Protective Orders

This notice also serves as a reminder to parties subject to administrative protective orders (APO) of their responsibility concerning the return or destruction of proprietary information disclosed under APO in accordance with 19 CFR § 351.305. Timely written notification of the return/destruction of APO materials or conversion to judicial protective order is hereby requested. Failure to comply with the regulations and terms of an APO is a violation that is subject to sanction.

We are issuing and publishing these results and notice in accordance with sections 751(a)(1) and 771(i)(1) of the Act.

Dated: November 30, 2006.
David M. Spooner,
Assistant Secretary for Import Administration.

Appendix

Comment 1: Whether the Department Should Continue to Reject the Post-Sale Price Adjustments That Vita Reported for U.S. Sales

[FR Doc. E6-20779 Filed 12-6-06; 8:45 am]

BILLING CODE 3510-DS-S